ENVIRONMENTAL PROTECTION AGENCY

[FRL-7041-6]

Proposed Settlement, Clean Air Act Citizen Suit

AGENCY: Environmental Protection Agency.

ACTION: Notice of proposed consent decree; request for public comment.

SUMMARY: In accordance with section 113(g) of the Clean Air Act, as amended (“Act”), 42 U.S.C. 7413(g), notice is hereby given of a proposed consent decree that was lodged with the United States District Court for the District of Arizona by the United States Environmental Protection Agency (“EPA”) on July 31, 2001 to address a lawsuit filed by three Phoenix, Arizona residents pursuant to section 304(a) of the Act, 42 U.S.C. 7604(a). The lawsuit addresses EPA's alleged failure to meet a mandatory deadline under section 110(k) of the Act, 42 U.S.C. 7410(k), to take final action to approve or disapprove the Serious Area PM-10 Plan for the Phoenix metropolitan PM-10 nonattainment area submitted by the State of Arizona to EPA on February 23, 2000. Bahr et al. v. Whitman, Case No. CV-01-835-PHX-ROS (D. Ariz.)

DATES: Written comments on the proposed consent decree must be received by September 24, 2001.

ADDRESSES: Written comments should be sent to Jan Taradash, Office of Regional Counsel, U.S. Environmental Protection Agency Region 9, 75 Hawthorne Street, San Francisco, CA 94105. Copies of the proposed consent decree are available from Jan Taber, (415) 744-1341.

SUPPLEMENTARY INFORMATION: The Clean Air Act requires EPA to take action to approve or disapprove a state implementation plan “SIP”) revision within 12 months of a determination by the Administrator that such revision is complete. See section 110(k)(1)-(4), 42 U.S.C. 7410(k)(1)-(4). On February 23, 2000, Arizona submitted to EPA the Serious Area PM-10 Plan for the Phoenix metropolitan PM-10 nonattainment area (“Serious Area Plan”) as a proposed revision to the Arizona SIP. EPA found the plan, which addresses both the 24-hour and annual PM-10 national ambient air quality standards, to be complete pursuant to section 110(k)(1)(B), 42 U.S.C. 7410(k)(1)(B), on February 25, 2000. On April 13, 2000, EPA proposed to approve the provisions of the Serious Area Plan addressing the annual PM-10 standard. 65 FR 19964. The proposed consent decree provides that EPA shall sign on or before September 14, 2001, a proposed rule for publication in the Federal Register approving or disapproving, pursuant to section 110(k) of the Act, 42 U.S.C. 7410(k), the 24-hour provisions of the Serious Area Plan. The proposed consent decree further provides that EPA shall sign on or before January 14, 2002, a final rule for publication in the Federal Register approving or disapproving the Serious Area Plan.

For a period of thirty (30) days following the date of publication of this notice, EPA will receive written comments relating to the proposed consent decree from persons who were not named as parties to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.

Dated: August 14, 2001.
Alan W. Eckert,
Associate General Counsel.

[FR Doc. 01-21342 Filed 8-22-01; 8:45 am]

BILLING CODE 6560-50-P